SMALL BUSINESS ADMINISTRATION

[Disaster Declaration # 10515 and # 10516]

Pennsylvania Disaster # PA-00004

AGENCY: U.S. Small Business Administration.

ACTION: Notice.

SUMMARY: This is a Notice of the Presidential declaration of a major disaster for the State of Pennsylvania (FEMA-1649-DR ), dated 07/04/2006

Incident: Severe Storms, Flooding, and Mudslides.

Incident Period: 06/23/2006 and continuing.

Effective Date: 07/04/2006.

Physical Loan Application Deadline Date: 09/05/2006.

Economic Injury (EIDL) LOAN Application Deadline Date: 04/04/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 07/04/2006, applications for disaster loans may be filed at the address listed above or other locally announced locations.

The following areas have been determined to be adversely affected by the disaster:

Primary Counties (Physical Damage and Economic Injury Loans):

Monroe, Schuylkill, Susquehanna, Wayne, Wyoming.

Contiguous Counties (Economic Injury Loans Only):

Pennsylvania: Berks, Bradford, Carbon, Columbia, Dauphin, Lackawanna, Lebanon, Lehigh, Luzerne, Northampton, Northumberland, Pike, Sullivan.

New Jersey: Sussex, Warren.

New York: Broome, Delaware, Sullivan, Tioga.

The Interest Rates are:

| Percent
For Physical Damage:
Homeowners With Credit Available Elsewhere | 5.875.
Homeowners Without Credit Available Elsewhere | 2.937.
Businesses With Credit Available Elsewhere | 7.763.
Businesses and Non-Profit Organizations Without Credit Available Elsewhere | 4.000.
Other (Including Non-Profit Organizations) With Credit Available Elsewhere | 5.000.
For Economic Injury:
Businesses & Small Agricultural Cooperatives Without Credit Available Elsewhere | 4.000.

The number assigned to this disaster for physical damage is 10515 C and for economic injury is 10516 0.

(Catalog of Federal Domestic Assistance Numbers 59002 and 59008)

Herbert L. Mitchell,
Associate Administrator for Disaster Assistance.

[FR Doc. E6-11147 Filed 7-14-06; 8:45 am]

BILLING CODE 8025-01-P